ENVIRONMENTAL PROTECTION AGENCY

40 CFR Part 52

[UT-001-0021b, UT-001-0041b; FRL-7264-8]

Approval and Promulgation of Air Quality Implementation Plans; State of Utah; Vehicle Inspection and Maintenance Program; Utah County

AGENCY: Environmental Protection Agency (EPA).

ACTION: Proposed rule.

SUMMARY: EPA is proposing to approve a State Implementation Plan revision submitted by the Governor of Utah on December 7, 2001. This SIP submittal consists of a revision to Utah's rule R307-110-34 and section X, Vehicle Inspection and Maintenance (I/M) Program, Part D, Utah County. This SIP submittal satisfies one of the conditions of EPA's June 9, 1997 interim approval of Utah County's improved vehicle I/M program SIP. The other condition of EPA's interim approval was submittal of a demonstration that Utah County's decentralized I/M program can obtain the same emission reduction credits as a centralized I/M program. The State submitted such a demonstration on May 20, 1999. These submittals meet the requirements of Section 348 of the National Highway System Designation Act, which allows States to claim additional credit for their decentralized I/M programs. In this case, Utah has demonstrated that Utah County's improved vehicle I/M program is entitled to 100% emissions reduction credit. Thus, EPA is hereby proposing to approve Utah's program evaluation, and revisions to Utah's rule R307-110-34 and section X, which would allow Utah County to claim 100% emissions reduction credit for its improved vehicle I/M program.

In the “Rules and Regulations” section of this Federal Register, EPA is approving the State's SIP revision and demonstration as a direct final rule without prior proposal because the Agency views this as a noncontroversial action and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time.

DATES: Comments must be received in writing on or before October 15, 2002.

ADDRESSES: Written comments may be mailed to Richard R. Long, Director, Air and Radiation Program, Mailcode 8P-AR, Environmental Protection Agency, Region VIII, 999 18th Street, Suite 500, Denver, Colorado, 80202. Copies of the documents relevant to this action are available for public inspection during normal business hours at the Air and Radiation Program, Environmental Protection Agency, Region VIII, 999 18th Street, Suite 500, Denver, Colorado, 80202-2466. Copies of the State documents relevant to this action are available for public inspection at the Utah Department of Environmental Quality, Division of Air Quality, 150 North 1950 West, Salt Lake City, Utah 84114.

FOR FURTHER INFORMATION CONTACT: Kerri Fiedler, EPA Region VIII, (303) 312-6493.

SUPPLEMENTARY INFORMATION: See the information provided in the Direct Final action of the same title which is located in the Rules and Regulations section of this Federal Register.

Authority: 42 U.S.C. 7401 et seq.

Dated: August 13, 2002.
Patricia D. Hull,
Acting Regional Administrator, Region VIII.

[FR Doc. 02-23085 Filed 9-11-02; 8:45 am]

BILLING CODE 6560-50-P